DEPARTMENT OF LABOR

Office of the Secretary

Combating Exploitive Child Labor Through Education in Guatemala, Indonesia, Nepal, and Rwanda

AGENCY: Bureau of International Labor Affairs, U.S. Department of Labor.

ACTION: New. Notice of Availability of Funds and Solicitation for Cooperative Agreement Applications (SGA). The full announcement is posted on http://www.grants.gov and USDOL/ILAB's Web site at http://www.dol.gov/ILAB/grants/main.htm.

Funding Opportunity Number: SGA 09-06.

Catalog of Federal Domestic Assistance (CFDA) Number: Not applicable.

Summary: The U.S. Department of Labor (USDOL), Bureau of International Labor Affairs (ILAB) will award up to USD 18.45 million through 4 or more cooperative agreements to one or more qualifying organizations and/or Associations to combat exploitive child labor in the following 4 countries: Guatemala (up to USD 4.2 million), Indonesia (up to USD 5.5 million), Nepal (up to USD 4.25 million) and Rwanda (up to USD 4.5 million). Projects funded under SGA 09-06 will seek to ensure children's long-term withdrawal and prevention from exploitive child labor, including through the provision of direct educational services, and build capacity in target countries to eliminate exploitive child labor.

Application and Submission Information: The full-text version of SGA 09-06 is available on http://www.grants.gov and USDOL/ILAB's Web site at http://www.dol.gov/ILAB/grants/main.htm

All applications in response to this solicitation may be submitted in hard copy or electronically via http://www.grants.gov. Applications submitted by other means, including e-mail, telegram, or facsimile (FAX) will not be accepted. Irrespective of submission method, all applications must be received by USDOL by 5 p.m. Eastern Standard Time (EST) on July 27, 2009. Applicants electing to submit hard copies must submit one (1) blue ink-signed original, complete application, plus three (3) additional copies of the application. Applicants electing to submit electronically must submit one electronic copy of the complete application via http://www.grants.gov no later than 5 p.m. Eastern Standard Time (EST) on July 27, 2009. Hard copy applications must be delivered to: U.S. Department of Labor, Office of Procurement Services, 200 Constitution Avenue, NW., Room S-4307, Washington, DC 20210, Attention: Lisa Harvey, Reference: Solicitation 09-06. Applicants submitting via http://www.grants.gov are responsible for ensuring that their applications are received by http://www.grants.gov by the deadline. Applicants are advised to submit their applications in advance of the deadline.

Key Dates: The deadline for submission of applications is July 27, 2009. All technical questions regarding SGA 09-06 must be sent by June 30, 2009 in order to receive a response. USDOL will make all cooperative agreement awards on or before September 30, 2009.

Agency Contacts: All technical questions regarding SGA 09-06 should be sent to Lisa Harvey, Grant Officer, U.S. Department of Labor's Office of Procurement Services, via e-mail (e-mail address: harvey.lisa@dol.gov, with a copy to Georgiette Nkpa at nkpa.georgiette@dol.gov; telephone: (202) 693-4570)—please note that this is not a toll-free-number).

Background Information: Since 1995, the U.S. Congress has appropriated over USD 720 million to ILAB for efforts to combat exploitive child labor internationally. This funding has been used to support technical cooperation projects to combat exploitive child labor, including the worst forms, in more than 80 countries around the world. Technical cooperation projects funded by USDOL range from targeted action programs in specific sectors of work to more comprehensive programs that support national efforts to eliminate the worst forms of child labor, as defined by International Labor Organization (ILO) Convention 182. Projects funded by USDOL to combat exploitive child labor internationally seek to achieve the following five goals:

1. Withdraw and prevent children from involvement in exploitive child labor through the provision of direct educational and training services;

2. Strengthen policies on child labor and education, the capacity of national institutions to combat child labor, and formal and transitional education systems that encourage working children and those at risk of working to attend school;

3. Raise awareness of the importance of education for all children and mobilize a wide array of actors to improve and expand education infrastructures;

4. Support research and the collection of reliable data on child labor; and

5. Ensure the long-term sustainability of these efforts.

Since 1995, USDOL-funded projects have withdrawn or prevented over 1.3 million children from exploitive labor.

Signed at Washington, DC, this 3rd day of June, 2009.
Lisa Harvey,
Grant Officer.

[FR Doc. E9-13319 Filed 6-5-09; 8:45 am]

BILLING CODE 4510-28-P